RAILROAD RETIREMENT BOARD

Agency Forms Submitted for OMB Review, Request for Comments

Summary: In accordance with the Paperwork Reduction Act of 1995 (44 U.S.C. chapter 35), the Railroad Retirement Board (RRB) is submitting five (5) Information Collection Requests (ICR) to the Office of Information and Regulatory Affairs (OIRA), Office of Management and Budget (OMB). Our ICR(s) describe the information we seek to collect from the public. Review and approval by OIRA ensures that we impose appropriate paperwork burdens.

The RRB invites comments on the proposed collections of information to determine (1) the practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

1. Title and Purpose of Information Collection: 3220-0005, Employer Reporting.

Under Section 9 of the Railroad Retirement Act (RRA), and Section 6 of the Railroad Unemployment Insurance Act (RUIA), railroad employers are required to submit reports of employee service and compensation to the RRB as needed for administering the RRA and RUIA. To pay benefits due on a deceased employee's earnings records or determine entitlement to, and amount of annuity applied for, it is necessary at times to obtain from railroad employers current (lag) service and compensation not yet reported to the RRB through the annual reporting process. The reporting requirements are specified in 20 CFR 209.6 and 209.7.

The RRB utilizes Form G-88a.1, Notice of Retirement and Verification of Date Last Worked, Form G-88a.2, Notice of Retirement and Request for Service Needed for Eligibility, and Form AA-12, Notice of Death and Compensation, to obtain the required lag service and related information from railroad employers. Form G-88a.1 is a computer-generated listing sent by the RRB to railroad employers and used for the specific purpose of verifying information previously provided to the RRB regarding the date last worked by an employee. Form G-88a.2 is used by the RRB to secure lag service and compensation information when it is needed to determine benefit eligibility. Form AA-12 obtains a report of lag service and compensation from the last railroad employer of a deceased employee. This report covers the lag period between the date of the latest record of employment processed by the RRB and the date an employee last worked, the date of death or the date the employee may have been entitled to benefits under the Social Security Act. The information is used by the RRB to determine benefits due on the deceased employee's earnings record. The RRB proposes no changes to Form AA-12, Form G-88a.1 and Form G-88a.2.

In addition, 20 CFR 209.12(b) requires all railroad employers to furnish the RRB with the home addresses of all employees hired within the last year (new-hires). Form BA-6a, Form BA-6 Address Report, is used by the RRB to obtain home address information of employees from railroad employers that do not have the home address information computerized and who submit the information in a paper format. The form also serves as an instruction sheet to railroad employers who can also submit the information electronically by magnetic tape cartridge, CD-ROM, secure e-mail, or via the Internet utilizing the RRB's Employer Reporting System (ERS). Completion of the forms is mandatory. One response is requested of each respondent. The RRB proposes no changes to Form BA-6a.

Information Collection Request (ICR)

Title: Employer Reporting.

OMB Control Number: 3220-0005.

Form(s) submitted: AA-12, G-88A.1, G-88A.2, BA-6a (Internet) and electronic equivalents.

Type of request: Extension without change of a currently approved collection.

Affected public: Business or other for-profit, Individuals or Households.

Abstract: Under the Railroad Retirement Act and the Railroad Unemployment Insurance Act, railroad employers are required to report service and compensation for employees needed to determine eligibility to and the amounts of benefits paid.

Estimated burden for the ICR:

Form No. | Annual responses | Time (minutes) | Burden (hours)
AA-12 | 60 | 5 | 5
G-88A.1 | 360 | 5 | 30
G-88A.1 (Class I railroads) | 144 | 20 | 48
G-88A.2 | 1,300 | 5 | 108
BA-6a (RR initiated)(paper) | 80 | 32 | 43
BA-6a (RRB initiated)(paper) | 250 | 32 | 133
BA-6a Electronic Equivalent* | 14 | 15 | 4
BA-6a Internet (RR initiated) | 250 | 17 | 71
BA-6a Internet (RRB initiated) | 250 | 12 | 50
BA-6a (E-mail) | 30 | 15 | 8
BA-6a (File Transfer Protocol) | 10 | 15 | 2
Total | 2,748 |  | 502

2. Title and Purpose of Information Collection: 3220-0008, Railroad Service and Compensation Reports/System Access Application/Report Certification.

Under Section 9 of the Railroad Retirement Act (RRA) and Section 6 of the Railroad Unemployment Insurance Act (RUIA) the Railroad Retirement Board (RRB) maintains for each railroad employee, a record of compensation paid to that employee by all railroad employers for whom the employee worked after 1936. This record, which is used by the RRB to determine eligibility for, and amount of, benefits due under the laws it administers, is conclusive as to the amount of compensation paid to an employee during such period(s) covered by the report(s) of the compensation by the employee's railroad employer(s), except in cases when an employee files a protest pertaining to his or her reported compensation within the statute of limitations cited in Section 9 of the RRA and Section 6 of the RUIA.

To enable the RRB to establish and maintain the record of compensation, employers are required to file with the RRB, in such manner and form and at such times as the RRB prescribes, reports of compensation of employees. Railroad Employers' Reports and Responsibilities are prescribed in 20 CFR 209. The RRB utilizes Form BA-3, Annual Report of Compensation and Form BA-4, Report of Creditable Compensation Adjustments, to secure required information from railroad employers. Form BA-3 provides the RRB with information regarding annual creditable service and compensation for each individual who worked for a railroad employer covered by the RRA and RUIA in a given year. Form BA-4 provides for the adjustment of any previously submitted reports and also the opportunity to provide any service and compensation that had been previously omitted. Requirements specific to Forms BA-3 and BA-4 are prescribed in 20 CFR 209.8 and 209.9.

Employers currently have the option of submitting the reports for the aforementioned forms, electronically by File Transfer Protocol (FTP), secure E-mail or via the Internet utilizing the RRB's Employer Reporting System (ERS) (for Form BA-4), or in like format on magnetic tape cartridges or CD-ROM. The RRB proposes no changes to Form BA-3 or BA-4.

The information collection also includes RRB Form BA-12, Application for Employer Reporting Internet Access and Form G-440, Report Specifications Sheet. Form BA-12 is completed by railroad employers to obtain system access to the RRB's Employer Reporting System (ERS). Once access is obtained, authorized employees may submit reporting forms to the RRB via the Internet. The form determines what degree of access (view/only, data entry/modification or approval/submission) is appropriate for that employee. It is also used to terminate an employee's access to ERS. The RRB proposes no changes to Form BA-12. Form G-440, Report Specifications Sheet, serves as a certification document for various RRB employer reporting forms (Forms BA-3, BA-4, Form BA-6a, BA-6, Address Report (OMB 3220-0005), BA-9, Report of Separation Allowance or Severance Pay (OMB 3220-0173) and BA-11, Report of Gross Earnings (OMB 3220-0132)). It records the type of medium the report was submitted on, and serves as a summary recapitulation sheet for reports filed on paper. The RRB proposes no changes to Form G-440.

Submission of Form BA-3, BA-4, and G-440 is mandatory. Completion of Form BA-12 is voluntary. It is completed only if an employer wants to submit reports via the Internet. One response is requested of each respondent for all of the forms in the collection. Depending on circumstances and method of submission chosen, multiple responses will be received from a respondent for Form BA-4 and G-440.

Information Collection Request (ICR)

Title: Railroad Service and Compensation Reports/System Access Application/Report Certification.

OMB Control Number: 3220-0008.

Form(s) submitted: BA-3, BA-3 (electronic equivalents), BA-4, BA-4 (Internet), BA-4 (electronic equivalents), BA-12.

Type of request: Extension without change of a currently approved collection.

Affected public: Business or other for-profit.

Abstract: Under the Railroad Retirement Act and the Railroad Unemployment Insurance Act, employers are required to report service and compensation for each employee to update Railroad Retirement Board records for payments of benefits. The collection obtains service and compensation information, information needed to ensure secure system access from employers who voluntarily opt to use the RRB's Internet-based Employer Reporting System to submit reporting forms and information needed to certify employer reporting transactions.

Estimated burden for the ICR:

Reporting | Responses | Time ¹ | Burden (hours)
BA-3:
Paper | 196 | 116.85 (7,011 min) | 22,903
Electronic Media | 386 | 46.25 (2,775 min) | 17,852
Total BA-3 | 582 |  | 40,755
BA-4:
Paper | 160 | 1.25 (75 min) | 200
Electronic Media | 285 | 1.00 (60 min) | 285
BA-4 (Internet) | 3,852 | .33 (20 min) | 1,284
Total BA-4 | 4,297 |  | 1,769
BA-12:
Initial Access | 300 | .33 (20 min) | 100
Access Termination | 50 | .166 (10 min) | 8
Total BA-12 | 350 |  | 108
G-440 (certification):
Form BA-3 (zero employees) | 96 | .25 (15 min) | 24
Form BA-11 (zero employees) | 305 | .25 (15 min) | 76
Paper forms (without recap) | 446 | .25 (15 min) | 112
Electronic transactions | 904 | .50 (30 min) | 452
BA-3 and BA-4 (with recap) | 368 | 1.25 (75 min) | 460
Total G-440 | 2,119 |  | 1,124
Grand Total | 7,348 |  | 43,756

3. Title and Purpose of Information Collection: 3220-0022, Application and Claim for Unemployment Benefits and Employment Service.

Section 2 of the Railroad Unemployment Insurance Act (RUIA), provides unemployment benefits for qualified railroad employees. These benefits are generally payable for each day of unemployment in excess of four during a registration period (normally a period of 14 days).

Section 12 of the RUIA provides that the RRB establish, maintain and operate free employment facilities directed toward the reemployment of railroad employees. The procedures for applying for the unemployment benefits and employment service and for registering and claiming the benefits are prescribed in 20 CFR part 325.

The RRB utilizes the following forms to collect the information necessary to pay unemployment benefits: Form UI-1 (or its Internet equivalent, Form UI-1 (Internet)), Application for Unemployment Benefits and Employment Service, is completed by a claimant for unemployment benefits once in a benefit year, at the time of first registration. Completion of Form UI-1 or UI-1 (Internet) also registers an unemployment claimant for the RRB's employment service. The RRB proposes no changes to Form UI-1 or UI-1 (Internet).

The RRB also utilizes Form UI-3, (or its Internet equivalent Form UI-3 (Internet)) Claim for Unemployment Benefits for use in claiming unemployment benefits for days of unemployment in a particular registration period, normally a period of 14 days. The RRB proposes no changes to Form UI-3 or UI-3 (Internet). Completion of Forms UI-1, UI-1 (Internet), UI-3 and UI-3 (Internet) is required to obtain or retain benefits. The number of responses required of each claimant varies, depending on their period of unemployment.

Information Collection Request (ICR)

Title: Application and Claim for Unemployment Benefits and Employment Service.

OMB Control Number: 3220-0022.

Form(s) submitted: UI-1, UI-1 (Internet), UI-3, UI-3 (Internet).

Type of request: Extension without change of a currently approved collection.

Affected public: Individuals or households.

Abstract: Under Section 2 of the Railroad Unemployment Insurance Act, unemployment benefits are provided for qualified railroad employees. The collection obtains the information needed for determining the eligibility to and amount of such benefits from railroad employees.

Estimated Burden for the ICR:

Form No. | Annual responses | Time (minutes) | Burden (hours)
UI-1 | 12,747 | 10 | 2,124
UI-1 (Internet) | 3,416 | 10 | 569
UI-3 | 108,217 | 6 | 10,822
UI-3 (Internet) | 37,951 | 6 | 3,795
Total | 162,331 |  | 17,311

4. Title and Purpose of Information Collection: 3220-0132, Gross Earnings Report.

In order to carry out the financial interchange provisions of section 7(c)(2) of the Railroad Retirement Act (RRA), the RRB obtains annually from railroad employers the gross earnings for their employees on a one-percent basis, i.e., 1% of each employer's railroad employees. The gross earnings sample is based on the earnings of employees whose social security numbers end with the digits “30.” The gross earnings are used to compute payroll taxes under the financial interchange.

The gross earnings information is essential in determining the tax amounts involved in the financial interchange with the Social Security Administration and Centers for Medicare and Medicaid Services. Besides being necessary for current financial interchange calculations, the gross earnings file tabulations are also an integral part of the data needed to estimate future tax income and corresponding financial interchange amounts. These estimates are made for internal use and to satisfy requests from other government agencies and interested groups. In addition, cash flow projections of the social security equivalent benefit account, railroad retirement account and cost estimates made for proposed amendments to laws administered by the RRB are dependent on input developed from the information collection.

The RRB utilizes Form BA-11 or its electronic equivalent(s) to obtain gross earnings information from railroad employers. Employers have the option of preparing and submitting BA-11 reports on paper, (or in like format) on magnetic tape cartridges, CD-ROM, File Transfer Protocol (FTP) or secure e-mail. Completion is mandatory. One response is required of each respondent. The RRB proposes no changes to Form BA-11.

Information Collection Request Details (ICR)

Title: Gross Earnings Report.

OMB Control Number: 3220-0132.

Form(s) submitted: BA-11, BA-11 (electronic equivalents).

Type of request: Extension without change of a currently approved collection.

Affected public: Business or other for-profit.

Abstract: Section 7(c)(2) of the Railroad Retirement Act requires a financial interchange between the OASDHI trust funds and the railroad retirement account. The collection obtains gross earnings of railway employees on a 1% basis. The information is used in determining the amount which would place the OASDHI funds trust in the position they would have been if railroad service had been covered by the Social Security and FIC Acts.

Estimated burden for the ICR:

Form No. | Annual responses | Time (minutes) | Burden (hours)
BA-11 (magnetic tape**/file transfer protocol***) | 8 | 300 | 40
BA-11 (CD-ROM)** | 38 | 30 | 19
BA-11 (manual form)* | 76 | 30 | 38
BA-11 (secure E-mail)*** | 47 | 30 | 24
Total | 169 |  | 121

5. Title and Purpose of Information Collection: 3220-0173, Railroad Separation Allowance or Severance Pay Report.

Section 6 of the Railroad Retirement Act provides for a lump-sum payment to an employee or the employee's survivors equal to the Tier II taxes paid by the employee on a separation allowance or severance payment for which the employee did not receive credits toward retirement. The lump-sum is not payable until retirement benefits begin to accrue or the employee dies. Also, Section 4(a-1)(iii) of the Railroad Unemployment Insurance Act provides that a railroad employee who is paid a separation allowance is disqualified for unemployment and sickness benefits for the period of time the employee would have to work to earn the amount of the allowance. The reporting requirements are specified in 20 CFR 209.14. In order to calculate and provide payments, the Railroad Retirement Board (RRB) must collect and maintain records of separation allowances and severance payments which were subject to Tier II taxation from railroad employers. The RRB uses Form BA-9 to obtain information from railroad employers concerning the separation allowances and severance payments made to railroad employees and/or the survivors of railroad employees. Employers currently have the option of submitting a paper BA-9, (or in like format) a magnetic tape cartridge, CD-ROM, electronically by File Transfer Protocol (FTP) or secure E-mail. Completion is mandatory. One response is requested of each respondent. The RRB proposes no changes to Form BA-9.

Information Collection Request (ICR)

Title: Railroad Separation Allowance or Severance Pay Report.

OMB Control Number: 3220-0173.

Form(s) submitted: BA-9, BA-9 (electronic equivalents).

Type of request: Extension without change of a currently approved collection.

Affected public: Business or other for profit.

Abstract: Section 6 of the Railroad Retirement Act provides for a lump-sum payment to an employee or the employee's survivor equal to the Tier II taxes paid by the employee on a separation allowance or severance payment for which the employee did not receive credits toward retirement. The collection obtains information concerning the separation allowances and severance payments paid from railroad employers.

Estimated Burden for the ICR:

Form No. | Annual responses | Time (minutes) | Burden (hours)
BA-9 (paper) | 265 | 76 | 336
BA-9 (magnetic tape) | 50 | 76 | 63
BA-9 (CD-ROM) | 10 | 76 | 13
BA-9 (secure E-mail) | 25 | 76 | 32
BA-9 (FTP) | 10 | 76 | 13
Total | 360 |  | 457

For Further Information Contact: Copies of the form and supporting documents can be obtained from Charles Mierzwa, the agency clearance officer at (312-751-3363) or Charles.Mierzwa@rrb.gov.

Comments regarding the information collection should be addressed to Patricia A. Henaghan, Railroad Retirement Board, 844 North Rush Street, Chicago, Illinois 60611-2092 or Patricia.Henaghan@rrb.gov and to the OMB Desk Officer for the RRB, at the Office of Management and Budget, Room 10230, New Executive Office Building, Washington, DC 20503.

Charles Mierzwa,
Clearance Officer.

[FR Doc. 2010-32302 Filed 12-22-10; 8:45 am]

BILLING CODE 7905-01-P